INTERNATIONAL TRADE COMMISSION

Sunshine Act Meeting; Emergency Notice of Change of Time of Meeting

Agency Holding the Meeting: United States International Trade Commission.

Date and Time: January 18, 2001 at 11 a.m.

Place: Room 101, 500 E Street SW., Washington, DC 20436, Telephone: (202) 205-2000.

Status: Open to the public.

In accordance with 19 CFR § 201.35(d)(1), notice is hereby given that the Commission has determined to change the time of the meeting being held Thursday, January 18, 2001 from 2 p.m. to 11 a.m. Earlier notification of such change was not possible.

Issued: January 17, 2001.
By order of the Commission.
Donna R. Koehnke,
Secretary.

[FR Doc. 01-1815 Filed 1-17-01; 2:18 pm]

BILLING CODE 7020-02-M